DEPARTMENT OF ENERGY

Federal Energy Regulatory Commission

18 CFR Part 35

[Docket No. RM01-12-000]

Remedying Undue Discrimination Through Open Access Transmission Service and Standard Electricity Market Design; Notice of Technical Conference

October 28, 2002.

AGENCY: Federal Energy Regulatory Commission, DOE.

ACTION: Notice of technical conference.

SUMMARY: On July 31, 2002, the Commission issued a Notice of Proposed Rulemaking (NPRM) in the above-captioned docket, proposing to amend its regulations to remedy undue discrimination through open access transmission service and standard electricity market design. See 67 FR 55452 (Aug. 29, 2002). The Commission has scheduled a public conference to address specific issues related to the inclusion of liability provisions in the Commission's Standard Market Design Tariff, as discussed in the NPRM.

DATES: The conference will be held on: December 11, 2002. Requests to speak are due: November 8, 2002.

ADDRESSES: Send requests to speak to: Office of the Secretary, Federal Energy Regulatory Commission, 888 First Street, NE., Washington, DC 20426.

FOR FURTHER INFORMATION CONTACT: Jignasa Gadani, Office of the General Counsel, Federal Energy Regulatory Commission, 888 First Street, NE., Washington, DC 20426. (202) 502-8608.

SUPPLEMENTARY INFORMATION:

1. Take notice that a technical conference will be held on December 11, 2002, beginning at 9:30 a.m., in the Commission Meeting Room on the second floor of the offices of the Federal Energy Regulatory Commission, 888 First Street, NE., Washington, DC. All interested persons may attend, and registration is not required.

2. The conference will address specific issues related to liability provisions in the Commission's proposed Standard Market Design Tariff, as described in the Notice of Proposed Rulemaking (NOPR) issued in this docket on July 31, 2002:

a. Is there a need to include liability provisions in the Commission's pro forma Standard Market Design tariff?

b. Under what circumstances should liability protection be provided in a Commission open access transmission tariff? For example, should the Commission provide such protection only when it is not available through state tariffs, or should such protection be included for all transmission uses?

c. If the Commission adopts liability provisions, should they be generic or do they need to be adopted on a regional basis?

d. Should the standards adopted in a Commission pro forma tariff reflect what was previously provided under state law? If so, how should this issue be resolved in the multistate context of an Independent System Operator or Regional Transmission Operator?

3. The Commission asks interested speakers to include in their requests to speak specific proposed tariff language for the liability provisions the speaker supports (if any) and a summary of the basis for those provisions. Draft liability provisions may address other liability-related issues beyond those enumerated above, and other liability-related issues may be addressed at the conference as necessary. Those interested in submitting comments regarding liability issues should be aware that the due date for such comments remains November 15, 2002. However, if participants wish to submit additional written comments regarding liability issues after the technical conference, they may do so on or before January 10, 2003.

4. Persons interested in speaking should file a request to speak on or before November 8, 2002, in Docket No. RM01-12-000. The request should clearly specify the name of the speaker; his or her title; the person or entity the speaker represents; and the speaker's mailing address, telephone number, facsimile number and e-mail address. As the number of potential speakers may exceed the time allotted for the conference, interested speakers are encouraged to coordinate their efforts with others who may have similar interests. Based on the requests to participate, panels of speakers will be specified in a subsequent notice.

5. Transcripts of the conference will be immediately available from Ace Reporting Company (202-347-3700 or 1-800-336-6646), for a fee. They will be available for the public on the Commission's FERRIS system two weeks after the conference. Additionally, Capitol Connection offers the opportunity for remote listening and viewing of the conference. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC.”

6. For more information about the conference, please contact Jignasa Gadani at (202) 502-8608 or jignasa.gadani@ferc.gov.

Magalie R. Salas,
Secretary.

[FR Doc. 02-28047 Filed 11-4-02; 8:45 am]

BILLING CODE 6450-01-P